DEPARTMENT OF THE TREASURY

Submission for OMB Review; Comment Request

January 26, 2016.

The Department of the Treasury will submit the following information collection requests to the Office of Management and Budget (OMB) for review and clearance in accordance with the Paperwork Reduction Act of 1995, Public Law 104-13, on or after the date of publication of this notice.

DATES: Comments should be received on or before March 2, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Internal Revenue Service (IRS)

OMB Control Number: 1545-0166.

Type of Review: Extension of a currently approved collection.

Title: Recapture of Investment Credit.

Abstract: Form 4255 is used to figure the increase in tax for the recapture of investment credit claimed and for the recapture of a qualifying therapeutic discovery project grant.

Affected Public: Businesses or other for-profits.

Estimated Total Annual Burden Hours: 129,492.

OMB Control Number: 1545-0195.

Type of Review: Extension of a currently approved collection.

Title: Election to Postpone Determination as to Whether the Presumption Applies that an activity is engaged in for profit.

Abstract: Section 183 of the Internal Revenue Code allows taxpayers to elect to postpone a determination as to whether an activity is entered into for profit or is in the nature of a nondeductible hobby. The election is made on Form 5213.

Affected Public: Businesses or other for-profits; Individuals.

Estimated Total Annual Burden Hours: 2,762.

OMB Control Number: 1545-1837.

Type of Review: Extension of a currently approved collection.

Title: Revenue Procedure 2003-36, Industry Issue Resolution Program.

Abstract: Rev. Proc. 2003-36 describes procedures for business taxpayers, industry associations, and other interested parties to submit issues for consideration under the Internal Revenue Service's Industry Issue Resolution (IIR) Program. The objective of the IIR Program is to identify frequently disputed or burdensome tax issues that are common to a significant number of business taxpayers that may be resolved through published or other administrative guidance.

Affected Public: Businesses or other for-profits.

Estimated Average Annual Burden per Response: 40 hours.

Estimated Total Annual Burden Hours: 2,000.

Brenda Simms,
Treasury PRA Clearance Officer.

[FR Doc. 2016-01710 Filed 1-29-16; 8:45 am]

BILLING CODE 4810-01-P